DEPARTMENT OF AGRICULTURE

Rural Business-Cooperative Service

Maximum Loan Amount for Business and Industry Guaranteed Loans in Fiscal Year 2014

AGENCY: Rural Business-Cooperative Service, USDA.

ACTION: The Notice of Funds Availability published in the Federal Register, Volume 78, Number 243, on December 18, 2013, that limited Business and Industry Guaranteed Loans to $10 million is hereby rescinded for Fiscal Year 2014. The carryover of unspent Fiscal Year 2013 together with Fiscal Year 2014 funds has resulted in a program level that merits the removal of the $10 million restriction.

DATES: Effective Date: March 31, 2014.

FOR FURTHER INFORMATION CONTACT: Jerred Brown, USDA, Rural Development, Business Programs, Business and Industry Division, STOP 3224, 1400 Independence Avenue SW., Washington, DC 20250-3224, telephone (202) 720-1970, email jerred.brown@wdc.usda.gov.

SUPPLEMENTARY INFORMATION: This action has been reviewed and determined not to be a rule or regulation as defined in Executive Order 12866 as amended by Executive Order 13258.

Date: March 6, 2014.
Lillian E. Salerno,
Administrator, Rural Business-Cooperative Service.

[FR Doc. 2014-06854 Filed 3-28-14; 8:45 am]

BILLING CODE 3410-XY-P